DEPARTMENT OF HEALTH AND HUMAN SERVICES

Office of the Secretary

Office of the Assistant Secretary for Administration; Statement of Organization, Functions, and Delegations of Authority

Part A, Office of the Secretary, Statement of Organization, Functions, and Delegations of Authority for the Department of Health and Human Services (HHS) is being amended at Part A, Chapter AJ, Office of the Assistant Secretary for Administration (ASA), which was last amended at 77 FR 2729, dated January 19, 2012, and most recently at 77 FR 71004, dated November 28, 2012. Part A, Chapter AB, Section AB.20 a paragraph on Office of Security and Strategic Information (ABE), is being inserted. Part P, Program Support Center (PSC), Statement of Organization, Functions, and Delegations of Authority, which was last amended at 75 FR 369-370, dated January 5, 2010, is not being amended. This notice transfers the onboarding/suitability and physical security functions of the Office for Security and Strategic Information (OSSI) to PSC. This transfer of functions complements the existing PSC component's facilities management functions, parking garage entrance, safety-related programs, and other administrative functions. This notice also updates information regarding OSSI's direct report to the Deputy Secretary, organizational structure, as well as the new roles and responsibilities for the Assistant Deputy Secretary for National Security and Secretary's Senior Intelligence Official and for OSSI.

A. Part P, Program Support Center, the statement of organization, functions, and delegations of Authority therein need not be changed as the transferred functions are within the scope of the functions of PSC as described.

B. Under Chapter AJ, Section AJ.20, Functions, delete the last paragraph, which begins with “Office of Security and Strategic Information (AJS),” in its entirety.

C. Under Chapter AB, Section AB.20, Functions, insert the following new paragraph at the end of the section with the following:

Office of Security and Strategic Information (ABE)

The Office of Security and Strategic Information is headed by the Assistant Deputy Secretary for National Security, who reports directly to the Deputy Secretary and also serves as the Secretary's Senior Intelligence Official on intelligence and counterintelligence issues. The Assistant Deputy Secretary for National Security has been delegated original classification authority by the Secretary. The Assistant Deputy Secretary for National Security manages the Office of Security and Strategic Information (OSSI). OSSI's vision is for HHS personnel to successfully accomplish missions worldwide in a security-informed manner and with the actionable intelligence needed, at the right time, for operational and policy decisions. OSSI's responsibilities include: Integrating intelligence and security information into HHS policy and operational decisions; assessing, anticipating, and warning of potential security threats to the Department and our national security; and, providing policy guidance on and managing the OS implementation of the Department's security, intelligence and counterintelligence programs. OSSI's programs include national security adjudication, classified national security information management, secure compartmented information facilities management, communications security, safeguarding and sharing of classified information, cyber threat intelligence, and counterintelligence. In coordination with the Director of National Intelligence, OSSI has been designated as a Federal Intelligence Coordinating Office and the Assistant Deputy Secretary for National Security serves as the HHS Federal Senior Intelligence Coordinator. OSSI has responsibilities to establish implementing guidance, provide oversight, and manage the Department's policy for the sharing, safeguarding, and coordinated exchange of information related to national or homeland security with other federal departments and agencies, including law enforcement organizations and the Intelligence Community, in compliance with HHS policies and applicable laws, regulations, and Executive Orders.

E. Delegation of Authority. Pending further redelegation, directives or orders made by the Secretary or Deputy Secretary, all delegations and redelegations of authority made to officials and employees of affected organizational components will continue in them or their successors pending further redelegations, provided they are consistent with this reorganization.

Eric D. Hargan,
Acting Secretary, Department of Health and Human Services.

[FR Doc. 2017-23091 Filed 10-24-17; 8:45 am]

BILLING CODE 4151-17-P